NUCLEAR REGULATORY COMMISSION

[NRC-2019-0001]

Sunshine Act Meetings

TIME AND DATE: Weeks of October 7, 14, 21, 28, November 4, 11, 2019.

PLACE: Commissioners' Conference Room, 11555 Rockville Pike, Rockville, Maryland.

STATUS: Public and Closed.

MATTERS TO BE CONSIDERED:

Week of October 7, 2019

There are no meetings scheduled for the week of October 7, 2019.

Week of October 14, 2019—Tentative

There are no meetings scheduled for the week of October 14, 2019.

Week of October 21, 2019—Tentative

There are no meetings scheduled for the week of October 21, 2019.

Week of October 28, 2019—Tentative

Tuesday, October 29, 2019

10:00 a.m. Transformation at the NRC—Becoming a Modern, Risk-Informed Regulator (Public Meeting); (Contact: Alysia Bone: 301-415-1034)

Week of November 4, 2019—Tentative

There are no meetings scheduled for the week of November 4, 2019.

Week of November 11, 2019—Tentative

There are no meetings scheduled for the week of November 11, 2019.

CONTACT PERSON FOR MORE INFORMATION: For more information or to verify the status of meetings, contact Denise McGovern at 301-415-0681 or via email at Denise.McGovern@nrc.gov. The schedule for Commission meetings is subject to change on short notice.

The NRC Commission Meeting Schedule can be found on the internet at: http://www.nrc.gov/public-involve/public-meetings/schedule.html.

The NRC provides reasonable accommodation to individuals with disabilities where appropriate. If you need a reasonable accommodation to participate in these public meetings or need this meeting notice or the transcript or other information from the public meetings in another format (e.g., Braille, large print), please notify Anne Silk, NRC Disability Program Specialist, at 301-287-0745, by videophone at 240-428-3217, or by email at Anne.Silk@nrc.gov. Determinations on requests for reasonable accommodation will be made on a case-by-case basis.

Members of the public may request to receive this information electronically. If you would like to be added to the distribution, please contact the Nuclear Regulatory Commission, Office of the Secretary, Washington, DC 20555 (301-415-1969), or by email at Tyesha.Bush@nrc.gov.

The NRC is holding the meetings under the authority of the Government in the Sunshine Act, 5 U.S.C. 552b.

Dated at Rockville, Maryland, this 4th day of October 2019.
For the Nuclear Regulatory Commission.
Denise L. McGovern,
Policy Coordinator, Office of the Secretary.

[FR Doc. 2019-22066 Filed 10-4-19; 4:15 pm]

BILLING CODE 7590-01-P